FEDERAL ELECTION COMMISSION

Sunshine Act Notices

Date And Time: Wednesday, January 23, 2008 at 10 a.m.

Place: 999 E. Street, NW., Washington, DC.

Status: This meeting will be closed to the public.

Items to be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Date And Time: Thursday, January 24, 2008 at 10 a.m.

Place: 999 E. Street, NW., Washington, DC (Ninth Floor).

Status: This meeting will be open to the public.

Items to be Discussed: Correction and Approval of Minutes.

Election of Vice Chairman.

Advisory Opinion 2007-32: SpeechNow.org by counsel, Bradley A. Smith, Stephen M. Hoersting, William H. “Chip” Mello, Steven Simpson, and Paul M. Sherman.

Advisory Opinion 2007-33: Club for Growth by counsel, Carol A. Laham and D. Mark Renaud.

Advisory Opinion 2007-35: FreeCause, Inc. by counsel, Joseph E. Sandler, Neil P. Reiff, and Jonathan Zucker.

Advisory Opinion 2007-36: People for Pete Domenici by counsel, Donald F. McGahn II, Management and Administrative Matters.

Person to Contact for Information: Robert Biersack, Press Officer, Telephone: (202) 694-1220.

Individuals who plan to attend and require special assistance, such as sign language interpretation or other reasonable accommodations, should contact Mary Dove, Commission Secretary, at (202) 694-1040, at least 72 hours prior to the hearing date.

Mary W. Dove,
Secretary of the Commission.

[FR Doc. 08-226 Filed 1-16-08; 2:36 pm]

BILLING CODE 6715-01-M